DEPARTMENT OF TRANSPORTATION

Federal Aviation Administration

14 CFR Part 39

[Docket No. FAA-2014-0060; Directorate Identifier 2012-NM-194-AD]

RIN 2120-AA64

Airworthiness Directives; Airbus Airplanes

AGENCY: Federal Aviation Administration (FAA), DOT.

ACTION: Notice of proposed rulemaking (NPRM).

SUMMARY: We propose to supersede Airworthiness Directives (AD) 2006-21-08, AD 2007-14-01, AD 2008-25-02, AD 2010-04-09, AD 2011-01-02, and AD 2012-16-05, for certain Airbus Model A330 and 340 series airplanes. AD 2006-21-08, AD 2007-14-01, AD 2008-25-02, AD 2010-04-09, AD 2011-01-02, and AD 2012-16-05 currently require revising the maintenance program or inspection program to incorporate certain maintenance requirements and airworthiness limitations for fuel tank systems. Since we issued AD 2006-21-08, AD 2007-14-01, AD 2008-25-02, AD 2010-04-09, AD 2011-01-02, and AD 2012-16-05, we have determined that more restrictive maintenance requirements and airworthiness limitations are necessary. This proposed AD would require a new maintenance or inspection program revision. We are proposing this AD to prevent the potential of ignition sources inside fuel tanks, which, in combination with flammable fuel vapors, could result in fuel tank explosions and consequent loss of the airplane.

DATES: We must receive comments on this proposed AD by April 14, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0060; or in person at the Docket Management Facility between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone (425) 227-1138; fax (425) 227-1149.

SUPPLEMENTARY INFORMATION:

Comments Invited

We invite you to send any written relevant data, views, or arguments about this proposed AD. Send your comments to an address listed under the ADDRESSES section. Include “Docket No. FAA-2014-0060; Directorate Identifier 2012-NM-194-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On October 10, 2006, we issued AD 2006-21-08, Amendment 39-14793 (71 FR 61639, October 19, 2006), for certain Airbus Model A330-200, A340-200, and A340-300 airplanes. AD 2006-21-08 requires installation of heat shields in the belly fairing of the center fuselage. AD 2006-21-08 resulted from fuel system reviews conducted by the manufacturer. We issued AD 2006-21-08 to prevent exposing any fuel leaked from the center fuel tank to the hot temperature areas of the air conditioning packs, which could result in a fire and consequent fuel tank explosion.

On June 25, 2007, we issued AD 2007-14-01, Amendment 39-15123 (72 FR 38006, July 12, 2007), for all Airbus Model A330 and A340 airplanes. AD 2007-14-01 requires revising the Airworthiness Limitations Section (ALS) of the Instructions for Continued Airworthiness (ICA) to incorporate new limitations for fuel tank systems. AD 2007-14-01 resulted from fuel system reviews conducted by the manufacturer. We issued AD 2007-14-01 to prevent the potential of ignition sources inside fuel tanks, which, in combination with flammable fuel vapors caused by latent failures, alterations, repairs, or maintenance actions, could result in fuel tank explosions and consequent loss of the airplane.

On November 26, 2008, we issued AD 2008-25-02, Amendment 39-15760 (73 FR 75307, December 11, 2008), for all Airbus Model A330 airplanes, and Model A340-200 and A340-300 airplanes. AD 2008-25-02 requires inspecting P-clips in the wings, modifying the electrical bonding of the equipment installed in fuel tanks, and applying applicable corrective actions. AD 2008-25-02 resulted from fuel system reviews conducted by the manufacturer. We issued AD 2008-25-02 to prevent the potential of ignition sources inside fuel tanks, which, in combination with flammable fuel vapors, could result in fuel tank explosions and consequent loss of the airplane.

On February 5, 2010, we issued AD 2010-04-09, Amendment 39-16202 (75 FR 7940, February 23, 2010; corrected March 3, 2010 (75 FR 9515)), for certain Airbus Model A330-200 series airplanes, and Model A340-200 and A340-300 series airplanes. AD 2010-04-09 requires the installation of plugs on the heat shield panels of the left-hand (LH) and right-hand (RH) air conditioning packs. AD 2010-04-09 resulted from the development of a repair solution by the manufacturer. We issued AD 2010-04-09 to prevent fuel from the center tank leaking through holes in the heat shield panels, which could cause vapor to develop into a potential source of ignition, possibly resulting in a fuel tank explosion and consequent loss of the airplane.

On December 17, 2010, we issued AD 2011-01-02, Amendment 39-16555 (76 FR 432, January 5, 2011), for certain Airbus Model A330-201, -202, -203, -223, and -243 airplanes; certain Airbus Model A330-300 series airplanes; and all Airbus Model A340-200 and -300 series airplanes. AD 2011-01-02 requires installing flight warning computer (FWC) software on both FWCs. AD 2011-01-02 resulted from fuel system reviews conducted by the manufacturer. We issued AD 2011-01-02 to prevent failure of the auxiliary power unit (APU) bleed leak detection system, which could result in overheat of the fuel tank located in the horizontal stabilizer and ignition of the fuel vapors in that tank and consequent loss of the airplane.

On July 31, 2012, we issued AD 2012-16-05, Amendment 39-17152 (77 FR 48425, August 14, 2012), for certain Airbus Model A330-200 and -200 freighter series airplanes; and Model A340-200, A340-300, A340-500, and A340-600 series airplanes. AD 2012-16-05 requires modification of the control circuit for the fuel pumps for the center fuel tanks for certain airplanes, and center and rear fuel tanks for certain other airplanes. AD 2012-16-05 resulted from fuel system reviews conducted by the manufacturer. We issued AD 2012-16-05 to prevent the potential of ignition sources inside fuel tanks, which, in combination with flammable fuel vapors, could result in fuel tank explosions and consequent loss of the airplane.

Actions Since Previously Described ADs Were Issued

Since we issued AD 2006-21-08, Amendment 39-14793 (71 FR 61639, October 19, 2006); AD 2007-14-01, Amendment 39-15123 (72 FR 38006, July 12, 2007); AD 2008-25-02, Amendment 39-15760 (73 FR 75307, December 11, 2008); AD 2010-04-09, Amendment 39-16202 (75 FR 7940, February 23, 2010; corrected March 3, 2010 (75 FR 9515)); AD 2011-01-02, Amendment 39-16555 (76 FR 432, January 5, 2011); and AD 2012-16-05, Amendment 39-17152 (77 FR 48425, August 14, 2012); we have determined that more restrictive maintenance requirements and airworthiness limitations are necessary.

The European Aviation Safety Agency (EASA), which is the Technical Agent for the Member States of the European Community, has issued EASA Airworthiness Directive 2012-0168, dated August 31, 2012 (referred to after this as the Mandatory Continuing Airworthiness Information, or “the MCAI”), to correct an unsafe condition for the specified products. The MCAI states:

Prompted by an accident [involving a fuel tank system explosion in flight] * * * the FAA published Special Federal Aviation Regulation (SFAR) 88 (66 FR 23086, May 7, 2001) and the Joint Aviation Authorities (JAA) published Interim Policy INT/POL/25/12. The design review conducted Airbus to develop Fuel Airworthiness Limitations (FAL) for Airbus on A330 and A340 aeroplanes in response to these regulations.

The FAL * * * have been approved by the European Aviation Safety Agency (EASA) * * * ALS Part 5.

Failure to comply with items as identified in Airbus A330 and A340 ALS Part 5 could result in a fuel tank explosion and consequent loss of the aeroplane.

To address this condition, EASA issued:

EASA AD 2007-0023, dated January 25, 2007 (http://ad.easa.europa.eu/ad/2007-0023), which corresponds to FAA AD 2007-14-01, Amendment 39-15123 (72 FR 38006, July 12, 2007) to require compliance with FAL * * * (comprising maintenance/inspection tasks and Critical Design Configuration Control Limitations (CDCCL)) for A330 aeroplanes, and

EASA AD 2006-0205, dated July 11, 2006 (http://ad.easa.europa.eu/ad/2006-0205), which also corresponds to FAA AD 2007-14-01, Amendment 39-15123 (72 FR 38006, July 12, 2007) to require compliance with FAL * * * (comprising maintenance/inspection tasks and Critical Design Configuration Control Limitations (CDCCL)) for Airbus A340 aeroplanes.

All other EASA ADs * * * required accomplishment of aeroplane modifications related to Fuel Tank Safety items, the requirements and compliance times of which are now integrated into ALS Part 5.

For the reasons described above this [EASA] AD * * * requires the implementation of the new or more restrictive maintenance requirements and/or airworthiness limitations as specified in the revision 00 of Airbus A340 ALS Part 5.

The unsafe condition is the potential of ignition sources inside fuel tanks. Such ignition sources, in combination with flammable fuel vapors, could result in fuel tank explosions and consequent loss of the airplane. You may examine the MCAI in the AD docket on the Internet at http://www.regulations.gov by searching for and locating it in Docket No. FAA-2014-0060.

Relevant Service Information

Airbus has issued A330 ALS Part 5—Fuel Airworthiness Limitations, dated November 16, 2011. The actions described in this service information are intended to correct the unsafe condition identified in the MCAI.

Related Rulemaking

We have issued AD 2013-26-03, Amendment 39-17712 (78 FR 79292, December 30, 2013), for Airbus Model A340 airplanes to require revising the maintenance or inspection program to incorporate certain maintenance requirements and airworthiness limitations. AD 2013-26-03 terminates the requirements of the following ADs for Model A340 airplanes only:

• AD 2006-21-08, Amendment 39-14793 (71 FR 61639, October 19, 2006);

• AD 2007-14-01, Amendment 39-15123 (72 FR 38006, July 12, 2007);

• AD 2008-25-02, Amendment 39-15760 (73 FR 75307, December 11, 2008);

• AD 2010-04-09, Amendment 39-16202 (75 FR 7940, February 23, 2010; corrected March 3, 2010 (75 FR 9515));

• AD 2011-01-02, Amendment 39-16555 (76 FR 432, January 5, 2011); and

• AD 2012-16-05, Amendment 39-17152 (77 FR 48425, August 14, 2012).

Because AD 2013-26-03, Amendment 39-17712 (78 FR 79292, December 30, 2013), terminates the requirements of the preceding ADs and requires new airworthiness limitations for Airbus Model A340 series airplanes, we have not included Airbus Model A340 series airplanes in the applicability of this proposed AD. This proposed AD applies only to the Airbus Model A330 series airplanes specified in paragraph (c) of this proposed AD.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

This proposed AD would retain none of the requirements of the ADs listed below, because those requirements are now contained in Airbus A330 ALS Part 5—Fuel Airworthiness Limitations, dated November 16, 2011:

• AD 2006-21-08, Amendment 39-14793 (71 FR 61639, October 19, 2006).

• AD 2007-14-01, Amendment 39-15123 (72 FR 38006, July 12, 2007).

• AD 2008-25-02, Amendment 39-15760 (73 FR 75307, December 11, 2008).

• AD 2010-04-09, Amendment 39-16202 (75 FR 7940, February 23, 2010; corrected March 3, 2010 (75 FR 9515)).

• AD 2011-01-02, Amendment 39-16555 (76 FR 432, January 5, 2011).

• AD 2012-16-05, Amendment 39-17152 (77 FR 48425, August 14, 2012).

This proposed AD would require implementation of certain maintenance requirements and airworthiness limitations. This proposed AD would also require accomplishing the actions specified in the service information described previously, except as discussed under “Differences Between this Proposed AD and the MCAI or Service Information.”

This proposed AD would require revisions to certain operator maintenance documents to include new actions (e.g., inspections) and Critical Design Configuration Control Limitations (CDCCLs). Compliance with these actions and CDCCLs is required by 14 CFR 91.403(c). For airplanes that have been previously modified, altered, or repaired in the areas addressed by these actions, the operator may not be able to accomplish the actions described in the revisions. In this situation, to comply with 14 CFR 91.403(c), the operator must request approval for an alternative method of compliance according to the procedures specified in paragraph (j)(1) of this AD. The request should include a description of changes to the required actions that will ensure the continued operational safety of the airplane.

Differences Between This Proposed AD and the MCAI or Service Information

This NPRM proposes to incorporate Airbus A330 ALS Part 5—Fuel Airworthiness Limitations, dated November 16, 2011, including “the specified compliance times” for the actions. However, the compliance times in this proposed AD for certain initial actions is different from those specified in Airbus A330 ALS Part 5—Fuel Airworthiness Limitations, dated November 16, 2011, because the actions were required by the ADs identified in the paragraph titled “Related Rulemaking” in this AD. Therefore, the initial compliance time is relative to the effective date of the applicable superseded AD, as specified in paragraph (h) of this NPRM.

Costs of Compliance

We estimate that this proposed AD affects 80 airplanes of U.S. registry.

We estimate that it would take about 1 work-hour per product to comply with the basic requirements of this proposed AD. The average labor rate is $85 per work-hour. Required parts would cost about $0 per product. Based on these figures, we estimate the cost of this proposed AD on U.S. operators to be $6,800, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This proposed regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing AD 2006-21-08, Amendment 39-14793 (71 FR 61639, October 19, 2006); AD 2007-14-01, Amendment 39-15123 (72 FR 38006, July 12, 2007); AD 2008-25-02, Amendment 39-15760 (73 FR 75307, December 11, 2008); AD 2010-04-09, Amendment 39-16202 (75 FR 7940, February 23, 2010; corrected March 3, 2010 (75 FR 9515)); AD 2011-01-02, Amendment 39-16555 (76 FR 432, January 5, 2011); AD 2012-16-05, Amendment 39-17152 (77 FR 48425, August 14, 2012); and

b. Adding the following new AD:

Airbus: Docket No. FAA-2014-0060; Directorate Identifier 2012-NM-194-AD.

(a) Comments Due Date

We must receive comments by April 14, 2014.

(b) Affected ADs

This AD supersedes the ADs specified in paragraphs (b)(1) through (b)(6) of this AD.

(1) AD 2006-21-08, Amendment 39-14793 (71 FR 61639, October 19, 2006).

(2) AD 2007-14-01, Amendment 39-15123 (72 FR 38006, July 12, 2007).

(3) AD 2008-25-02, Amendment 39-15760 (73 FR 75307, December 11, 2008).

(4) AD 2010-04-09, Amendment 39-16202 (75 FR 7940, February 23, 2010; corrected March 3, 2010 (75 FR 9515)).

(5) AD 2011-01-02, Amendment 39-16555 (76 FR 432, January 5, 2011).

(6) AD 2012-16-05, Amendment 39-17152 (77 FR 48425, August 14, 2012).

(c) Applicability

This AD applies to Airbus Model A330-201, -202, -203, -223, -243, -223F, -243F, -301, -302, -303, -321, -322, -323, -341, -342, and -343 airplanes, certificated in any category, all manufacturer serial numbers.

(d) Subject

Air Transport Association (ATA) of America Code 05, Time Limits/Maintenance Checks.

(e) Reason

This AD was prompted by a determination that more restrictive maintenance requirements and airworthiness limitations are necessary. We are issuing this AD to prevent the potential of ignition sources inside fuel tanks, which, in combination with flammable fuel vapors, could result in fuel tank explosions and consequent loss of the airplane.

(f) Compliance

Comply with this AD within the compliance times specified, unless already done.

(g) Maintenance Program Revision and Airworthiness Limitations Compliance

(1) Within 3 months after the effective date of this AD, revise the maintenance or inspection program, as applicable, by incorporating Airbus A330 Airworthiness Limitations Section (ALS) Part 5—Fuel Airworthiness Limitations, dated November 16, 2011.

(2) Comply with all applicable instructions and airworthiness limitations included in Airbus A330 ALS Part 5—Fuel Airworthiness Limitations, dated November 16, 2011. The initial compliance times for the actions specified in Airbus A330 ALS Part 5—Fuel Airworthiness Limitations, dated November 16, 2011, are at the later of the times specified in paragraphs (g)(2)(i) and (g)(2)(ii) of this AD, except as required by paragraphs (h) and (i) of this AD.

(i) Within the applicable compliance times specified in Airbus A330 ALS Part 5—Fuel Airworthiness Limitations, dated November 16, 2011.

(ii) Within 3 months after accomplishing the actions required by paragraph (g)(1) of this AD.

(h) Exceptions to Compliance Times for Design Changes

(1) For type design changes specified in “Sub-part 5-2 Changes to Type Design,” of Airbus A330 ALS Part 5—Fuel Airworthiness Limitations, dated November 16, 2011, the compliance times are defined as “Embodiment Limits,” except as defined in paragraph (h)(2) of this AD.

(2) Where Airbus A330 ALS Part 5—Fuel Airworthiness Limitations, dated November 16, 2011, specifies a compliance time based on a calendar date for modifying the control circuit for the fuel pump of the center fuel tank (installing ground fault interrupters to the center tank fuel pump control circuit), the compliance date is September 18, 2016 (48 months after the effective date of AD 2012-16-05, Amendment 39-17152 (77 FR 48425, August 14, 2012)).

(i) No Alternative Actions, Intervals, or Critical Design Configuration Control Limitations (CDCCLs)

After accomplishing the revision required by paragraph (g) of this AD, no alternative actions (e.g., inspections), intervals, or CDCCLs may be used; except as specified in paragraphs (h) and (i) of this AD; or unless the actions, intervals, or CDCCLs are approved as an alternative method of compliance (AMOC) in accordance with the procedures specified in paragraph (j)(1) of this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA-approved. Corrective actions are considered FAA-approved if they were approved by the State of Design Authority (or its delegated agent, or the DAH with a State of Design Authority's design organization approval, as applicable). You are required to ensure the product is airworthy before it is returned to service.

(k) Related Information

(1) Refer to Mandatory Continuing Airworthiness Information (MCAI) European Aviation Safety Agency Airworthiness Directive 2012-0168, dated August 31, 2012; for related information. This MCAI may be found in the AD docket on the Internet at http://www.regulations.gov by searching for and locating Docket No. FAA-2014-0060.

(2) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this service information at the FAA, Transport Airplane Directorate, 1601 Lind Avenue SW., Renton, WA. For information on the availability of this material at the FAA, call 425-227-1221.

Issued in Renton, Washington, on February 14, 2014.
Jeffrey E. Duven,
Manager. Transport Airplane Directorate, Aircraft Certification Service.

[FR Doc. 2014-04258 Filed 2-26-14; 8:45 am]

BILLING CODE 4910-13-P